DEPARTMENT OF COMMERCE

National Oceanic and Atmospheric Administration

[I.D. 020602A]

Endangered and Threatened Species; Take of Anadromous Fish

AGENCY: National Marine Fisheries Service (NMFS), National Oceanic and Atmospheric Administration (NOAA), Commerce.

ACTION: Receipt of applications for scientific research permits.

SUMMARY: NMFS has received applications for Endangered Species Act (ESA) scientific research permits from Oregon Department of Fish and Wildlife (ODFW) in Grants Pass, OR and from ODFW in Central Point, OR.

DATES: Comments or requests for a public hearing on either of the new applications must be received no later than 5 p.m. Pacific standard time on March 25, 2002.

ADDRESSES: The applications are available on the Internet at http://www.nwr.noaa.gov/. Written comments on the applications should be sent to Protected Resources Division, F/NWO3, 525 NE Oregon Street, Suite 500, Portland, OR 97232-2737 (503/230-5400). Comments may also be sent via fax to 503/230-5435. Comments will not be accepted if submitted via email or the Internet.

FOR FURTHER INFORMATION CONTACT: Cherelle Blazer, Portland, OR; phone: 503/231-2001; fax: 503/230-5435; e-mail: Cherelle.Blazer@noaa.gov.

SUPPLEMENTARY INFORMATION: The ESA-listed evolutionary significant unit (ESU) Threatened Southern Oregon/Northern California Coasts (SONCC) Coho salmon is covered in this notice.

New Applications Received

ODFW is seeking a 5 year permit (1358) to take juvenile SONCC coho salmon in index and randomly selected sites in the Rogue River basin and in other Oregon coastal basins. The purpose of the study is to monitor the abundance of SONCC coho salmon in accordance with the Oregon Plan for Salmon and Watersheds. The study will benefit SONCC coho salmon by estimating the species abundance and distribution. ODFW proposes to capture (using backpack electrofishing, blocknetting, and dipnetting), handle, and release approximately 1,400 juvenile salmon annually. ODFW also requests indirect mortality of approximately 28 juvenile SONCC coho salmon annually during the study.

ODFW is also seeking a 5 year permit (1359) to take juvenile SONCC coho salmon associated with scientific research to be conducted at 168 sites in the Rogue River basin. This study intends to prioritize restoration efforts at fish passage barriers in the Rogue basin, survey streams to determine the species of fish below and above barriers, and determine the severity of fish passage problems. The research will benefit SONCC coho salmon by characterizing the species' distribution and identifying fish passage improvement projects that will greatly benefit the wild fish populations. ODFW proposes to capture (using backpack electrofishing, blocknetting, and dipnetting), identify, and release approximately 146 juvenile SONCC coho salmon annually. ODFW also requests an annual indirect mortality of approximately 8 juvenile SONCC coho salmon during the study.

Dated: February 19,2002.
Phil Williams,
Acting Chief, Endangered Species Division, Office of Protected Resources, National Marine Fisheries Service.

[FR Doc. 02-4281 Filed 2-21-02; 8:45 am]

BILLING CODE 3510-22-S